DEPARTMENT OF DEFENSE

Department of the Army, Corps of Engineers

Withdrawal of Intent To Prepare a Draft Programmatic Environmental Impact Statement for the Onondaga Lake Watershed Management Plan, Feasibility Study, City of Syracuse, Onondaga County, Central New York State, and Onondaga Nation

AGENCY: Department of the Army; Corps of Engineers, DoD.

ACTION: Notice; withdrawal.

SUMMARY: A Notice of Intent To Prepare a Draft Programmatic Environmental Impact Statement (DPEIS) for the Onondaga Lake Watershed Management Plan (OLWMP), Feasibility Study, City of Syracuse, Onondaga County, Central New York State, and Onondaga Nation was published in the Federal Register on April 1, 2005 (70 FR 16807). Subsequent to the Notice of Intent, the project scope and funding was significantly reduced and modified and a decision made to terminate the EIS process. An Onondaga Lake Watershed Progress Assessment and Actions Strategies report is being prepared over the next two years and will be available to agencies, interests, and the public in 2009.

ADDRESSES: Correspondence should be addressed to: Mr. Tod Smith, U.S. Army Corps of Engineers, Buffalo District, Environmental Analyses Section, 1776 Niagara Street, Buffalo, NY 14207-3199.

FOR FURTHER INFORMATION CONTACT: Mr. Tod Smith, telephone at 716-879-4175, e-mail at tod.d.smith@usace.army.mil.

SUPPLEMENTARY INFORMATION: None.

Dated: September 4, 2007.
John S. Hurley,
Lieutenant Colonel, Corps of Engineers, District Commander.

[FR Doc. 07-4554 Filed 9-13-07; 8:45 am]

BILLING CODE 3710-GP-M